NATIONAL TRANSPORTATION SAFETY BOARD

Sunshine Act Meeting

TIME AND DATE: 9:30 a.m., Tuesday, June 9, 2015.

PLACE: NTSB Conference Center, 429 L'Enfant Plaza SW., Washington, DC 20594.

STATUS: The two items are open to the public.

MATTERS TO BE CONSIDERED:

8695 Marine Accident Report—Collision Between Bulk Carrier Summer Wind and the Miss Susan Tow, Houston Ship Channel, Lower Galveston Bay, Texas, March 22, 2014.

8696 Pipeline Accident Report—Natural Gas-Fueled Building Explosion and Resulting Fire, New York City, New York, March 12, 2014.

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Wednesday, June 3, 2015.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Eric Weiss, (202) 314-6100 or by email at eric.weiss@ntsb.gov for the New York accident, and Terry Williams, (202) 314-6100 or by email at Terry.Williams@ntsb.gov for the Texas accident.

Dated: Friday, May 22, 2015.
Candi R. Bing,
Federal Register Liaison Officer.

[FR Doc. 2015-12904 Filed 5-22-15; 4:15 pm]

BILLING CODE 7533-01-P